SECURITIES AND EXCHANGE COMMISSION

Issuer Delisting; Notice of Application of Landesbank Baden-Württemberg to Withdraw its 7 7/8% Subordinated Notes (Due April 15, 2004), From Listing and Registration on the New York Stock Exchange, Inc. File No. 1-10836

March 28, 2003.

Landesbank Baden-Württemberg, a German bank (“Issuer”), has filed an application with the Securities and Exchange Commission (“Commission”), pursuant to section 12(d) of the Securities Exchange Act of 1934 (“Act”)¹ and rule 12d2-2(d) thereunder,² to withdraw its 7 7/8% Subordinated Notes (due April 15, 2004)(“Security”), from listing and registration on the New York Stock Exchange, Inc. (“NYSE” or “Exchange”).

¹ 15 U.S.C. 78l(d).

² 17 CFR 240.12d2-2(d).

The Board of Managing Directors of the Issuer (“Board”) approved a resolution on September 24, 2002 to withdraw the Issuer's Security from listing on the NYSE. In making its decision to withdraw the Security from the Exchange, the Issuer states the following: On September 25, 2002, 85.69% of the outstanding amount of the Security was held by 60 note holders who are institutional investors and the volume of trading in the Security is very small. According to the NYSE, in the period from January 1, 2001 to September 25, 2002, the Security was not traded once on the NYSE. In addition, according to Bloomberg professional, in the period from September 2, 2001 to September 25, 2002, the Security was traded seven times in the secondary market. The Issuer also states that substantial costs incurred each year for the preparation of reporting forms can be avoided.

The Issuer stated in its application that it has complied with the NYSE's rules governing an issuer's voluntary withdrawal of a security from listing and registration. The Issuer's application relates solely to the Security's withdrawal from listing on the NYSE and from registration under section 12(b) of the Act ³ and shall not affect its obligation to be registered under section 12(g) of the Act.⁴

³ 15 U.S.C. 78l(b).

⁴ 15 U.S.C. 78l(g).

Any interested person may, on or before April 21, 2003, submit by letter to the Secretary of the Securities and Exchange Commission, 450 Fifth Street, NW., Washington, DC 20549-0609, facts bearing upon whether the application has been made in accordance with the rules of the NYSE and what terms, if any, should be imposed by the Commission for the protection of investors. The Commission, based on the information submitted to it, will issue an order granting the application after the date mentioned above, unless the Commission determines to order a hearing on the matter.

For the Commission, by the Division of Market Regulation, pursuant to delegated authority. ⁵
⁵ 17 CFR 200.30-3(a)(1).
Jonathan G. Katz,
Secretary.

[FR Doc. 03-8031 Filed 4-2-03; 8:45 am]

BILLING CODE 8010-01-P